DEPARTMENT OF JUSTICE

Drug Enforcement Administration

Lawrence C. Agee, M.D.; Revocation of Registration

On January 25, 2001, the Deputy Assistant Administrator, Office of Diversion Control, Drug Enforcement Administration (DEA), issued an Order to Show Cause (OTSC) by certified mail to Lawrence C. Agee, M.D., notifying him of an opportunity to show cause as to why the DEA should not revoke his DEA Certificate of Registration, BA0922903, pursuant to 21 U.S.C. 824(a)(3), and deny any pending applications for renewal or modification of such registration pursuant to 21 U.S.C. 823(f), on the grounds that Dr. Agee is not licensed in California, the jurisdiction in which he practices. The order also notified Dr. Agee that should no request for hearing be filed within 30 days, his right to a hearing would be deemed waived.

The OTSC was sent to Dr. Agee at his DEA registered premises in Auburn, California. Subsequently, on February 16, 2001, the letter was returned by the U.S. Postal Service, marked “attempted, not known” and “not at this address.”

The DEA Sacramento District Office then contacted the California Medical Board and obtained its address of record for Dr. Agee in Rocklin, California. The OTSC was then sent by certified mail to Dr. Agee at this address. On April 18, 2001, this second letter was also returned to DEA, marked “not deliverable as addressed,” and “unable to forward,” and “moved left no address.”

DEA has received no further information regarding the whereabouts of Dr. Agee, nor any information from anyone purporting to represent him in this matter. Therefore, the Administrator, finding that (1) 30 days having passed since the attempted delivery of the Order to Show Cause at Dr. Agee's last known address, and (2) no request for a hearing having been received, concludes that Dr. Agee is deemed to have waived his right to a hearing. Following a complete review of the investigative file in this matter, the Administrator now enters his final order without a hearing pursuant to 21 CFR 1301.43 (d) and (e), and 1301.46 (2001).

The Administrator finds as follows: Dr. Agee currently possesses DEA Certificate of Registration BA0922903, issued to him in California. By Decision and Order effective October 11, 2000, the Medical Board of California adopted the Proposed Decision of the Division of Medical Quality, Medical Board of California, Department of Consumer Affairs, that Dr. Agee's Physician and Surgeon Certificate be suspended for an indefinite period. Therefore, the Administrator concludes that Dr. Agee is not currently licensed or authorized to handle controlled substances in California.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Administrator finds the Government has presented evidence demonstrating that Dr. Agee is not authorized to practice medicine in California, and therefore, the Administrator infers that Dr. Agee is also not authorized to handle controlled substances in California, the State in which he holds his DEA Certificate of Registration.

Accordingly, the Administrator of the Drug Enforcement Administration pursuant to the authority vested in him by 21 U.S.C. 823 and 824 and 28 CFR 0.100(b) and 0.104, hereby orders that the DEA Certificate of Registration BA0922903 previously issued to Lawrence C. Agee, M.D., be, and it hereby is, revoked. The Administrator hereby further orders that any pending applications for renewal or modification of said registration be, and hereby are, denied. This order is effective November 19, 2001.

Dated: October 10, 2001.
Asa Hutchinson,
Administrator.

[FR Doc. 01-26189 Filed 10-17-01; 8:45 am]

BILLING CODE 4410-09-M